DEPARTMENT OF AGRICULTURE

Animal and Plant Health Inspection Service

7 CFR Part 330

[Docket No. 02-011-2]

Redelivery of Cargo for Inspection

AGENCY: Animal and Plant Health Inspection Service, USDA.

ACTION: Notice of reopening and extension of comment period.

SUMMARY: We are reopening and extending the comment period for our proposed rule amending the regulations pertaining to cargo entering the United States. The proposed rule would provide that inspectors from the Animal and Plant Health Inspection Service (APHIS) may require that cargo that has entered the United States and been moved from the port of first arrival prior to inspection by an APHIS inspector be returned to the port of first arrival or, if convenient, another location, as specified by APHIS, for inspection when necessary. This action will allow interested persons additional time to prepare and submit comments.

DATES: We will consider all comments that we receive on or before September 16, 2002.

ADDRESSES: You may submit comments by postal mail/commercial delivery or by e-mail. If you use postal mail/commercial delivery, please send four copies of your comment (an original and three copies) to: Docket No. 02-011-1, Regulatory Analysis and Development, PPD, APHIS, Station 3C71, 4700 River Road Unit 118, Riverdale, MD 20737-1238. Please state that your comment refers to Docket No. 02-011-1. If you use e-mail, address your comment to regulations@aphis.usda.gov. Your comment must be contained in the body of your message; do not send attached files. Please include your name and address in your message and “Docket No. 02-011-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Ms. Pamela Byrne, Senior Staff Officer, Port Operations, PPQ, APHIS, 4700 River Road Unit 147, Riverdale, MD 20737-1231; (301) 734-5242.

SUPPLEMENTARY INFORMATION:

Background

On June 20, 2002, we published in the Federal Register (67 FR 41868-41869, Docket No. 02-011-1) a proposal to amend the regulations pertaining to inspection of cargo entering the United States. The proposed rule would provide that inspectors from the Animal and Plant Health Inspection Service (APHIS) may require that cargo that has been moved from the port of first arrival prior to inspection by APHIS be returned to the port of first arrival or, if convenient, another location, as specified by APHIS, for inspection when necessary.

Comments on the proposed rule were required to be received on or before August 19, 2002. We are reopening and extending the comment period on Docket No. 02-011-1 for an additional 30 days ending September 16, 2002. This action will allow interested persons additional time to prepare and submit comments.

Authority: 7 U.S.C. 450, 2260, 7711, 7712, 7714, 7718, 7731, 7734, 7751, and 7754; 19 U.S.C. 1306; 21 U.S.C. 111, 114a, 136, and 136a; 31 U.S.C. 9701; 42 U.S.C. 4331 and 4332; 7 CFR 2.22, 2.80, and 371.3.

Done in Washington, DC, this 20th day of August, 2002.
Bobby R. Acord,
Administrator, Animal and Plant Health Inspection Service.

[FR Doc. 02-21738 Filed 8-26-02; 8:45 am]

BILLING CODE 3410-34-P